DEPARTMENT OF HEALTH AND HUMAN SERVICES

National Institutes of Health

Notice of Intent To Prepare an Environmental Impact Statement for the National Emerging Infectious Diseases Laboratories Facility in Boston, MA

AGENCY: National Institutes of Health, (NIH), DHHS.

ACTION: Notice of intent to prepare an environmental impact statement for the National Emerging Infectious Diseases Laboratories facility in Boston, MA.

SUMMARY: The Department of Health and Human Services (DHHS), National Institutes of Health (NIH), announces its intent to prepare an environmental impact statement (EIS) to evaluate a proposed new National Emerging Infectious Diseases Laboratories facility in Boston, MA. This EIS is being prepared and considered in accordance with the requirements for the National Environmental Policy Act (NEPA) of 1969, regulations of the President's Council on Environmental Quality (40 CFR parts 1500-1508), and NEPA Compliance Procedures of the DHHS General Administration Manual, Part 30 (Environmental Protection) 25 February 2000.

Cooperating Agencies: There are no cooperating agencies for this project.

SUPPLEMENTARY INFORMATION: The National Institute of Allergy and Infectious Diseases (NIAID), a component of the NIH, conducts and supports research of infectious diseases and the human immune system. Its resources and expertise have been applied to studying emerging infectious diseases such as SARS, West Nile virus and Lyme disease and organisms that might be used as agents of bioterrorism such as anthrax and tularemia. Knowledge of how these organisms cause disease and the response of the immune system to those organisms is desperately needed. This knowledge will be used to develop new and improved diagnostic tests, vaccines, and therapies to protect civilians.

Since fall 2001, NIAID has greatly accelerated its biodefense research program. Achievement of the research goals requires the construction and certification of biological containment laboratories with facilities and procedures for handling potentially lethal agents. Equally important is the need to minimize potential threats from infectious agents to laboratory and clinical personnel working within these facilities and to adjacent communities. The Federal Government has awarded a grant in the amount of $128 million to partially fund the National Emerging Infectious Diseases Laboratories facility in Boston, MA as a crucial element of this NIH initiative.

This proposed action is the funding of the construction of the National Emerging Infectious Diseases Laboratories in Boston, MA, a new building comprised of laboratories designed and constructed to Biosafety Levels -2, -3, and -4 standards that will allow translational and clinical research on emerging infectious diseases including agents of bioterror. The proposed new facility will have imaging capabilities and will include administrative support offices. It will occupy approximately 3 acres on the BioSquare Medical Research campus at 600-620 Albany Street, Boston, MA and will be located on the Boston University Medical Center campus.

Significant issues to analyzed in the EIS will include safety of laboratory operations; public health and safety; handling, collection, treatment, and disposal of biomedical research waste related to the proposal; and analysis of other risks, as well as concerns for pollution prevention and impacts of the proposed action on air quality, biological resources, cultural resources, water resources, land use, and socioeconomic resources. The No Action alternative under which the new facility would not be built will also be considered. Additional alternatives may be identified during the Scoping Process.

Publication Participation: The DHHS will invite full public participation to promote open communication and better decision-making. All interested persons and organizations, including minority, low income, disadvantaged, and Native American groups, are urged to participate in this NEPA environmental analysis process. Assistance will be provided upon request to anyone having difficulty with learning how to participate.

To ensure that the full range of issues related to the proposed action and the scope of this EIS are addressed, oral and written comments are invited from all interested parties, including appropriate Federal, state, and local agencies and private organizations and citizens. Pursuant to this, a Public Scoping meeting will be held on Monday, January 26, 2004 from 7 to 9 p.m. in the auditorium at the Thomas P. O'Neil, Jr. Federal Building, 10 Causeway Street, Boston, MA.

Comments on the scope of the EIS for the proposed project should be received no later than January 28, 2004. Comments and questions should be directed to the address listed below. Public comments are welcomed anytime throughout the NEPA process and should be directed to the address listed below. Additional formal opportunities for public participation after the Public Scoping are tentatively scheduled as follows:

Review and comment on Draft EIS (including a public meeting): Spring, 2004.

Review of Final EIS: Summer, 2004.

Notices of availability for the Draft EIS, Final EIS and Record of Decision will be provided through direct mail, the Federal Register, and other media. Notification also will be sent to Federal, State, and local agencies and persons organizations that submit comments or questions. Precise schedules and locations for public meetings will be announced in the local news media. Interested individuals and organizations may request to be included on the mailing list for public distribution of meeting announcements and associated documents.

FOR FURTHER INFORMATION CONTACT: Valerie Nottingham, Chief, Environmental Quality Branch, Division of Environmental Protection, Office of Research Facilities, National Institutes of Health, DHHS, B13/2W64, Bethesda, MD 20892; by telephone 301-496-7775; fax 301-480-8056; or e-mail nottingv@ors.od.nih.gov.

Dated: January 5, 2004.
Stephen A. Ficca,
Associate Director for Research Services, National Institutes of Health.

[FR Doc. 04-452 Filed 1-8-04; 8:45 am]

BILLING CODE 4140-01-M